DEPARTMENT OF ENERGY

Federal Energy Regulatory Commission

Combined Notice of Filings

Take notice that the Commission has received the following Natural Gas Pipeline Rate and Refund Report filings:

Filings Instituting Proceedings

Docket Numbers: RP20-59-000.

Applicants: Dominion Energy Transmission, Inc.

Description: § 4(d) Rate Filing: DETI—Modifications to GT&C Section 42 to be effective 11/12/2019.

Filed Date: 10/10/19.

Accession Number: 20191010-5102.

Comments Due: 5 p.m. ET 10/22/19.

Docket Numbers: RP20-60-000.

Applicants: TOTAL E&P USA, INC.,Murphy Exploration & Production Company.

Description: Joint Petition for Limited Waiver of Commission Policies, Capacity Release Regulations and Policies, et al. of TOTAL E&P USA, Inc., et al. under RP20-60.

Filed Date: 10/11/19.

Accession Number: 20191011-5107.

Comments Due: 5 p.m. ET 10/18/19.

Docket Numbers: RP20-61-000.

Applicants: Rockies Express Pipeline LLC.

Description: § 4(d) Rate Filing: Non-Conforming 2019-10-11 GPS to be effective 12/1/2019.

Filed Date: 10/11/19.

Accession Number: 20191011-5120.

Comments Due: 5 p.m. ET 10/23/19.

Docket Numbers: RP19-1582-001.

Applicants: Gulf South Pipeline Company, LP.

Description: Tariff Amendment: Amendment to Filing in Docket No. RP19-1582-000 to be effective 9/23/2019.

Filed Date: 10/15/19.

Accession Number: 20191015-5004.

Comments Due: 5 p.m. ET 10/28/19.

Docket Numbers: RP20-62-000.

Applicants: LA Storage, LLC.

Description: § 4(d) Rate Filing: Filing of Negotiated Rate, Conforming IW Agreement (Sequent) to be effective 10/15/2019.

Filed Date: 10/15/19.

Accession Number: 20191015-5005.

Comments Due: 5 p.m. ET 10/28/19.

Docket Numbers: RP20-63-000.

Applicants: Gulf South Pipeline Company, LP.

Description: § 4(d) Rate Filing: Filing to Incorporate Approved Changes (RP19-1473 into RP19-1539) to be effective 10/15/2019.

Filed Date: 10/15/19.

Accession Number: 20191015-5183.

Comments Due: 5 p.m. ET 10/28/19.

Docket Numbers: RP20-64-000.

Applicants: Guardian Pipeline, L.L.C.

Description: § 4(d) Rate Filing: Update to Non-Conforming Agreements RW0068 and RW0074 to be effective 11/1/2019.

Filed Date: 10/15/19.

Accession Number: 20191015-5298.

Comments Due: 5 p.m. ET 10/28/19.

Docket Numbers: RP20-65-000.

Applicants: El Paso Natural Gas Company, L.L.C.

Description: § 4(d) Rate Filing: Negotiated Rate Agreement Update (Targa) to be effective 11/15/2019.

Filed Date: 10/15/19.

Accession Number: 20191015-5360.

Comments Due: 5 p.m. ET 10/28/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 16, 2019.
Nathaniel J. Davis, Sr.,
Deputy Secretary.

[FR Doc. 2019-22969 Filed 10-21-19; 8:45 am]

BILLING CODE 6717-01-P